DEPARTMENT OF EDUCATION

[Docket ID ED-2024-FSA-0070]

Privacy Act of 1974; System of Records

AGENCY: Federal Student Aid, Department of Education.

ACTION: Notice of a modified system of records.

SUMMARY: In accordance with the Privacy Act of 1974, as amended (Privacy Act), the U.S. Department of Education (Department) publishes this notice of a modified system of records entitled “Aid Awareness and Application Processing” (18-11-21). This system maintains information necessary for the Department to process applications for Federal student financial program assistance under title IV of the Higher Education Act of 1965, as amended (HEA); to perform the responsibilities of the Federal Student Aid (FSA) Ombudsman; to provide Federal student loan repayment relief including under the borrower defense to repayment regulations; to notify aid applicants and aid recipients of aid program opportunities and updates under title IV of the HEA via digital communication channels; and to maintain the StudentAid.gov website as the front end for assisting customers with all of their Federal student financial aid needs throughout the student aid lifecycle. The Department's Digital and Customer Care (DCC) Information Technology (IT) system collects the electronic records maintained in the Aid Awareness and Application Processing (AAAP) system.

DATES: Submit your comments on this modified system of records notice on or before July 1, 2024.

This modified system of records notice will become applicable upon publication in the Federal Register on May 30, 2024, except for the new and modified routine uses (1)(p), (1)(q), and 1(s) that are outlined in the section entitled “ROUTINE USES OF RECORDS MAINTAINED IN THE SYSTEM, INCLUDING CATEGORIES OF USERS AND PURPOSES OF SUCH USES,” which will be applicable July 1, 2024, unless they need to be changed as a result of public comment. The Department will publish any changes to the modified system of records notice resulting from public comment.

ADDRESSES: Comments must be submitted via the Federal eRulemaking Portal at regulations.gov. However, if you require an accommodation or cannot otherwise submit your comments via regulations.gov, please contact one of the program contact persons listed under FOR FURTHER INFORMATION CONTACT. The Department will not accept comments submitted by fax or by email, or comments submitted after the comment period closes. To ensure that the Department does not receive duplicate copies, please submit your comments only once. In addition, please include the Docket ID at the top of your comments.

• Federal eRulemaking Portal: Go to www.regulations.gov to submit your comments electronically. Information on using Regulations.gov, including instructions for accessing agency documents, submitting comments, and viewing the docket, is available on the site under “FAQ”.

Privacy Note: The Department's policy is to make comments received from members of the public available for public viewing in their entirety on the Federal eRulemaking Portal at www.regulations.gov. Therefore, commenters should be careful to include in their comments only information that they wish to make publicly available.

Assistance to Individuals with Disabilities in Reviewing the Rulemaking Record: On request, we will provide an appropriate accommodation or auxiliary aid to an individual with a disability who needs assistance to review the comments or other documents in the public rulemaking record for this notice. If you want to schedule an appointment for this type of accommodation or aid, please contact one of the program contact persons listed under FOR FURTHER INFORMATION CONTACT.

FOR FURTHER INFORMATION CONTACT:

Rachel Coghlan, Central Processing System (CPS) System Manager, Student Experience and Aid Delivery, Federal Student Aid (FSA), U.S. Department of Education, Union Center Plaza, 830 First Street NE, Washington, DC 20202-5454. Telephone: (202) 377-3205. Email: Rachel.Coghlan@ed.gov.

Corey Johnson, FAFSA® Processing System (FPS) Information System Owner, Federal Student Aid, U.S. Department of Education, Union Center Plaza, 830 First Street NE, Washington, DC 20202-5454. Telephone: (202) 377-3898. Email: Corey.Johnson@ed.gov.

Bonnie Latreille, Ombudsman/Director, Ombudsman Group, Federal Student Aid (FSA), U.S. Department of Education, Union Center Plaza, 830 First Street NE, Washington, DC 20202-5454. Telephone: (202) 377-3726. Email: Bonnie.J.Latreille@ed.gov.

Pardu Ponnapalli, Information System Owner, Technology Directorate, Federal Student Aid, U.S. Department of Education, Union Center Plaza, 830 First Street NE, Washington, DC 20202-5454. Telephone: (240) 382-5825. Email: Pardu.Ponnapalli@ed.gov.

If you are deaf, hard of hearing, or have a speech disability and wish to access telecommunications relay services, please dial 7-1-1.

SUPPLEMENTARY INFORMATION: In accordance with the Privacy Act, the Department proposes to modify the system of records notice entitled “Aid Awareness and Application Processing” (18-11-21), which was last published in full in the Federal Register on February 2, 2024 (89 FR 7381).

The Department is modifying the section entitled “PURPOSE(S) OF THE SYSTEM” for the purposes related to applying for Federal student financial assistance and administering title IV, HEA programs to add purpose (18) to enable institutions of higher education (IHEs) and State higher education agencies to provide aid applicants and aid recipients with information about certain Federal means-tested benefits for which they may qualify and to enable IHEs and State higher education agencies, with the explicit written consent of aid applicants or aid recipients, and parents of dependent aid applicants or aid recipients and spouses of married aid applicants or aid recipients if necessary, to share non-Federal Tax Information (FTI) Free Application for Federal Student Aid (FAFSA) information directly with Federal, State, or local government agencies or tribal organizations to assist such applicants or recipients, in applying for or receiving Federal, State, or local government assistance, or tribal assistance for any component of the applicants' or recipients' cost of attendances that may include financial assistance or non-monetary assistance.

The Department is modifying the second sentence in the first paragraph in the section entitled “CATEGORIES OF INDIVIDUALS COVERED BY THE SYSTEM” to remove the category of individuals that includes those who are students in attendance at a secondary school or local educational agency for which State grant agencies and other eligible requesting entities submit information to the Department in order for the Department to provide such entities with the student's FAFSA Filing Status Information. The Department is removing this category of individuals because the Department is no longer collecting this information and permits FAFSA filing status to be redisclosed by State higher education agencies to such entities, as described in the modification of routine use 1(p).

The Department is modifying the note in Category (1) in the section entitled “CATEGORIES OF RECORDS IN THE SYSTEM” to clarify that the “FUTURE Act System (FAS)” (18-11-23) system of records notice was published in the Federal Register.

The Department is modifying the section entitled “ROUTINE USES OF RECORDS MAINTAINED IN THE SYSTEM, INCLUDING CATEGORIES OF USERS AND PURPOSES OF SUCH USES” as follows:

(i) In the first paragraph, the Department is deleting the last sentence (which reads, “Until June 30, 2024, Section 483(a)(3)(E) of the HEA (20 U.S.C. 1090(a)(3)(E)) restricts the use of the information gathered from the electronic version of the FAFSA to the application, award, and administration of aid awarded under title IV of the HEA, aid awarded by States, aid awarded by eligible institutions, or aid awarded by such entities as the Secretary of Education may designate”) because Section 483(a)(3)(E) of the HEA will not be in effect after June 30, 2024;

(ii) Routine use (1)(p) is modified to revise and limit the entities to which the Department may disclose a student's FAFSA filing status for the purpose of encouraging a student to complete a FAFSA that they started but did not submit and assisting a student with the completion of a FAFSA to a State higher education agency in order for such agency to redisclose such information to a local educational agency; a secondary school where the student is or was enrolled; grantees of the Department; American Indian and Alaska Native educational entities; and nonprofit college access organizations with an established relationship with the student;

(iii) Routine use (1)(q) is modified to remove and replace “Through June 30, 2024, the Department may disclose records from this system to State higher education agencies, eligible IHEs, and other entities that the Secretary of Education has designated under section 483(a)(3)(E) of the HEA (20 U.S.C. 1090(a)(3)(E)) that award and administer aid to students, to determine an applicant's eligibility for the award of aid by State higher education agencies, eligible IHEs, or by other entities the Secretary of Education has designated. (Beginning July 1, 2024, under amendments to the HEA made by the FAFSA Simplification Act and the FAFSA Simplification Technical Corrections Act, the Department will no longer rely on this authority to disclose records from this system to State higher education agencies, eligible IHEs, and other entities that the Secretary of Education has designated under section 483(a)(3)(E) of the HEA (20 U.S.C. 1090(a)(3)(E))” with “The Department may disclose records under Sections 483(a)(2)(D)(i), 483(a)(2)(E)(ii), and 483(a)(3)(B)(i) of the HEA (20 U.S.C. 1090(a)(2)(D)(i), 1090(a)(2)(E)(ii), and 1090(a)(3)(B)(i)) from this system to State higher education agencies, eligible IHEs, and scholarship organizations that were designated prior to the date of enactment (December 19, 2019) of the FUTURE Act (Pub. L. 116-91, 133 Stat. 1189) that award and administer aid to students, to determine an applicant's eligibility for aid awarded by State higher education agencies, eligible IHEs, or designated scholarship organizations, and to administer Federal aid or aid awarded by State higher education agencies, eligible IHEs, or designated scholarship organizations.”; and

(iv) Routine use (1)(s) is added to permit disclosures of records from an applicant's FAFSA to IHEs and State higher education agencies to provide aid applicants and aid recipients with information about certain Federal means-tested benefits for which they may qualify.

Accessible Format: On request to any of the program contact persons listed under FOR FURTHER INFORMATION CONTACT, individuals with disabilities can obtain this document in an accessible format. The Department will provide the requestor with an accessible format that may include Rich Text Format (RTF) or text format (txt), a thumb drive, an MP3 file, braille, large print, audiotape, compact disc, or other accessible format.

Electronic Access to This Document: The official version of this document is the document published in the Federal Register. You may access the official edition of the Federal Register and the Code of Federal Regulations at www.govinfo.gov. At this site you can view this document, as well as all other documents of this Department published in the Federal Register, in text or Portable Document Format (PDF). To use PDF, you must have Adobe Acrobat Reader, which is available free at the site.

You may also access documents of the Department published in the Federal Register by using the article search feature at www.federalregister.gov. Specifically, through the advanced search feature at this site, you can limit your search to documents published by the Department.

Richard Cordray,
Chief Operating Officer, Federal Student Aid.

For the reasons discussed in the preamble, the Chief Operating Officer, Federal Student Aid (FSA) of the U.S. Department of Education (Department) publishes a modified system of records notice to read as follows:

SYSTEM NAME AND NUMBER:

Aid Awareness and Application Processing (18-11-21).

SECURITY CLASSIFICATION:

Unclassified.

SYSTEM LOCATION:

U.S. Department of Education, 830 First Street NE, Washington, DC 20202.

The following locations are for the Central Processing System (CPS):

Lee's Summit Federal Records Center, National Archives and Records Administration (NARA), 200 Space Center Drive, Lee's Summit, MO 6464-1182 (Note: This is where paper applications are stored);

General Dynamics Information Technology (GDIT) Image and Data Capture (IDC) Center, 1084 South Laurel Road, Building 1, London, KY 40744 (Note: The IDC scans paper financial aid documents and correspondence, key-enters the data and electronically transmits the data and related images to the CPS for processing);

Next Generation Data Center (NGDC), 250 Burlington Drive, Clarksville, VA 23927 (Note: NGDC hosts the infrastructure that supports CPS applications including backend application processing); and

CPS Print Facility, 327 Columbia Pike, Rensselaer, NY 12144 (Note: This facility handles print operations).

The following locations are for the Free Application for Federal Student Aid (FAFSA®) Processing System (FPS):

Perspecta/Peraton, 15052 Conference Center Drive, Chantilly, VA 20151 (Note: Perspecta supports the FSA-provided development, security, and operations (DevSecOps) toolchain configuration; coordinates environment building; and supports technical operations activities and application modernization);

Information Capture Solutions (ICS), 25 Air Park Drive, London, KY 40744 (Note: ICS provides image and data capture, print/mailing operational services, and builds and operates the IDC);

iWorks, 1889 Preston White Drive, Suite 100, Reston, VA 20191 (Note: iWorks provides quality control managers (key personnel); develops and updates the quality control plan; oversees/validates service level measures; supports internal Capability Maturity Model Integration (CMMI) audits; supports Project Management Office (PMO) activities; and provides application development support using Agile methodologies);

Red Cedar Consultancy, LLC, 161 Fort Evans Road NE, Suite 200, Leesburg, VA 20176 (Note: Red Cedar provides application development support using Agile methodologies);

Windsor Group, LLC, 6820 Wisconsin Avenue, Unit 4004, Chevy Chase, MD 20815 (Note: Windsor Group provides quality resources in system security, database administration, and technical writing); and

Jazz Solutions, LLC, 20745 Williamsport Place, Suite 320, Ashburn, VA 20147 (Note: Jazz Solutions provides application development support using Agile methodologies and supports application programming interface (API) management solutions, including designing, building, and operating services).

The following locations are for the Digital and Customer Care (DCC) Information Technology (IT) System:

Salesforce Government Cloud, 415 Mission Street, 3rd Floor, San Francisco, CA 94105 (Note: The system is accessible via the internet to different categories of users, including Department personnel, customers, and designated agents of the Department at any location where they have internet access. This site is the location where customer interactions with contact center support via all inbound and outbound channels (phone, email, chat, webform, email, customer satisfaction survey, fax, physical mail, and controlled correspondence) and customer-provided feedback (complaints, suspicious activities, positive feedback, and dispute cases) are tracked and worked by contractors and the Department. This site also contains workflow management for processing tasks including, but not limited to: credit appeals, borrower defense to repayment, commingled Social Security numbers (SSNs), and archived document retrieval in the Common Origination and Disbursement (COD) System, and the FAFSA special correction application process. This site stores customer-provided documentation to support the interactions and processing tasks, as needed. This site will also be used by the Department for determining employer eligibility to support Public Service Loan Forgiveness (PSLF), and Office of Inspector General (OIG) fraud referrals);

Amazon Web Services (AWS) GovCloud (East/West), 410 Terry Avenue, North Seattle, WA 98109-5210 (Note: The DCC IT system is hosted at this location. This site is the location where the Shado (Dynamo) application collects, processes, stores, and makes available user activity events from across the DCC IT system to provide a complete view of the customer to the Department and its contractors. This site is also the location where the Adobe Marketing Campaign application delivers strategic and real-time personalized email and short message service (SMS) communications); and

Contact Center Fulfillment Center (Senture facility), 4255 W Highway 90, Monticello, KY 42633 (Note: This facility handles mail fulfillment and imaging operations).

The following 10 listings are the locations of the Aid Awareness and Application Processing Customer Contact Centers: Jacksonville Contact Center, One Imeson Park Boulevard, Jacksonville, FL 32118; Knoxville, TN Servicing Center, 120 N Seven Oaks Drive, Knoxville, TN 37922; 1600 Osgood Street, Suite 2-120, North Andover, MA 01845; 11499 Chester Road, Suite 101, Sharonville, OH 45246; 100 Domain Drive, Suite 200, Exeter, NH 03833; 221 N Kansas Street, Suite 700, El Paso, TX 79901; 4255 W Highway 90, Monticello, KY 42633; 555 Vandiver Drive, Columbia, MO 65202; 633 Spirit Drive, Chesterfield, MO 63005; and 820 First Street, NE, Washington, DC 20002.

SYSTEM MANAGER(S):

CPS—System Manager, Student Experience and Aid Delivery, FSA, U.S. Department of Education, Union Center Plaza (UCP), 830 First Street NE, Washington, DC 20202-5454.

FPS—Information System Owner, Technology Directorate, Federal Student Aid, U.S. Department of Education, Union Center Plaza, 830 First Street NE, Washington, DC 20202-5454.

Ombudsman, FSA, U.S. Department of Education, UCP, 830 First Street NE, Washington, DC 20202-5454.

DCC—Information System Owner, Technology Directorate, Federal Student Aid, U.S. Department of Education, Union Center Plaza, 830 First Street NE, Washington, DC 20202-5454.

AUTHORITY FOR MAINTENANCE OF THE SYSTEM:

The authorities are title IV of the Higher Education Act of 1965, as amended (HEA) (20 U.S.C. 1070 et seq.); 20 U.S.C. 1018(f); and the Higher Education Relief Opportunities for Students Act of 2003 (20 U.S.C. 1098bb) (including any waivers or modifications that the Secretary of Education deems necessary to make to any statutory or regulatory provision applicable to the Federal student financial assistance programs under title IV of the HEA to achieve specific purposes listed in the section in connection with a war, other military operation, or a national emergency). The collection of SSNs of individuals, and parents of dependent students, who apply for or receive Federal student financial assistance under programs authorized by title IV of the HEA is also authorized by 31 U.S.C. 7701 and Executive Order 9397, as amended by Executive Order 13478 (November 18, 2008).

PURPOSE(S) OF THE SYSTEM:

The information contained in this system is maintained for the following purposes related to applying for Federal student financial assistance and administering title IV, HEA programs: (Note: Different parts of the HEA use the terms “discharge,” “cancellation,” or “forgiveness” to describe when a borrower's loan amount is reduced in whole or in part by the Department. To reduce complexity, this system of records notice uses the term “discharge” to include all three terms (“discharge,” “cancellation,” and “forgiveness”), including but not limited to discharges of student loans made pursuant to specific benefit programs. At times, the system of records notice may refer by name to a specific benefit program, such as the “Public Service Loan Forgiveness” program; such specific references are not intended to exclude any such program benefits from more general references to loan discharges.)

(1) Assisting with the determination, correction, processing, tracking, and reporting of program eligibility and benefits for the Federal student financial assistance programs authorized by title IV of the HEA, including, but not limited to, discharge of eligible loans under title IV, HEA programs;

(2) Making a loan or grant;

(3) Verifying the identity of the applicant for Federal financial assistance under title IV of the HEA, the spouse of a married applicant, the parent(s) of a dependent applicant, and, until CPS is decommissioned after September 30, 2024, an individual who applies for an FSA ID; and verifying the accuracy of the information in this system;

(4) Reporting the results of the need analysis and Federal Pell Grant eligibility determination to applicants, institutions of higher education (IHEs), third-party servicers, State agencies designated by the applicant, and Departmental and investigative components;

(5) Reporting the results of duly authorized matching programs between the Department and other Federal agencies and between the Department and State or local governments, or agencies thereof, to applicants, IHEs, third-party servicers, State agencies designated by the applicant, and Departmental and investigative components where the Department is required by law to do so or where it would be essential to the conduct of the matching program to report, such as for the imposition of criminal, civil, or administrative sanctions;

(6) Enforcing the terms and conditions of a title IV, HEA loan or grant;

(7) Servicing and collecting a delinquent title IV, HEA loan or grant;

(8) Initiating enforcement action against individuals, IHEs, or other entities involved in program fraud, abuse, or noncompliance;

(9) Locating a debtor or recipient of a grant overpayment;

(10) Maintaining a record of the data supplied by those requesting title IV, HEA program assistance;

(11) Ensuring compliance with and enforcing title IV, HEA programmatic requirements and various consumer protection laws;

(12) Acting as a repository and source for information necessary to fulfill the requirements of title IV of the HEA;

(13) Evaluating title IV, HEA program effectiveness;

(14) Enabling IHEs and State grant agencies designated by the applicant to review and analyze the financial aid data of their applicant population;

(15) Enabling IHEs and State grant agencies to assist applicants with the completion of the application for the Federal student financial assistance programs authorized by title IV of the HEA;

(16) Assisting State agencies, eligible IHEs, and other entities that award aid to students and that are designated by the Secretary of Education with making eligibility determinations for the award of aid and with administering these awards;

(17) Promoting and encouraging applications for title IV, HEA program assistance, State assistance, and aid awarded by eligible IHEs or by other entities designated by the Secretary of Education; and

(18) Enabling IHEs and State higher education agencies to provide aid applicants and aid recipients with information about certain Federal means-tested benefits for which they may qualify and to enable IHEs and State higher education agencies, with the explicit written consent of aid applicants or aid recipients, and parents of dependent aid applicants or aid recipients and spouses of married aid applicants or aid recipients if necessary, to share non-FTI FAFSA information directly with Federal, State, or local government agencies or tribal organizations to assist such applicants or recipients, in applying for or receiving Federal, State, or local government assistance, or tribal assistance for any component of the applicants' or recipients' cost of attendances that may include financial assistance or non-monetary assistance.

The information contained in this system is also maintained for the following purposes related to managing customer engagement:

(1) Carrying out the duties and responsibilities of the FSA Ombudsman, including investigating and resolving complaints, inquiries, and requests for assistance, updating borrower account records, correcting errors, analyzing complaint trends, and making appropriate recommendations pursuant to 20 U.S.C. 1018(f);

(2) Carrying out the duties and responsibilities of the Department to provide Federal student loan repayment relief under Federal law;

(3) Verifying the identity of FSA customers;

(4) Recording complaints, suspicious activities, positive feedback, and comments as provided by customer interactions with contact center support via inbound and outbound channels (phone, chat, webform, email, customer satisfaction survey, fax, physical mail, social media platforms, digital engagement platforms, and controlled correspondence);

(5) Tracking individual cases, including complaints, borrower defense submissions, general inquiries, and chat sessions, through final resolution, reporting trends, and analyzing the data to recommend improvements in Federal student financial assistance programs;

(6) Assisting in the informal resolution of disputes submitted by aid applicants or aid recipients about issues related to title IV, HEA program assistance;

(7) Carrying out the duties and responsibilities of the Department under the borrower defense to repayment regulations at 34 CFR 685.206 and 685.222 and 34 CFR part 685, subpart D, including receiving, reviewing, evaluating, and processing requests for relief under the borrower defense to repayment regulations; and

(8) Initiating proceedings, where appropriate, to recover liabilities from an IHE for losses incurred as a result of the act or omission of the IHE participating in the Federal student loan programs.

The information contained in this system is also maintained for the following purposes related to assisting aid applicants and recipients with Federal student financial assistance programs authorized by title IV of the HEA, and managing customer relationships for marketing and improving customer service:

(1) Determining employer qualification for borrowers to receive discharge under the PSLF Program;

(2) Collecting, processing, storing, and making available user activity events and user-submitted documentation from across the DCC IT system to provide a complete view of the customer to the Department and its contractors;

(3) Sending aid applicants and aid recipients strategic and real-time, personalized communications via email, and SMS “text messages” via mobile phone communications to inform them of title IV, HEA aid marketing campaigns (such as encouraging completion of their FAFSA), and sending transactional communication to customers (such as confirmation emails when a user completes an action);

(4) Measuring customer satisfaction and analyzing results; and

(5) Promoting and encouraging the repayment of title IV, HEA program loans in a timely manner.

The information in this system is also maintained for the following purposes relating to the Department's administration and oversight of title IV, HEA programs:

(1) To support the investigation of possible fraud and abuse and to detect and prevent fraud and abuse in the title IV, HEA Federal grant and loan programs;

(2) To support compliance with title IV, HEA statutory and regulatory requirements;

(3) To provide an aid recipient's financial aid history, including information about the recipient's title IV, HEA loan defaults, title IV, HEA aid receipt, and title IV, HEA grant program overpayments;

(4) To facilitate receiving and correcting application data, processing Federal Pell Grants and Direct Loans, and reporting Federal Perkins Loan Program expenditures to the Department's processing and reporting systems;

(5) To support pre-claims/supplemental pre-claims assistance;

(6) To assist in locating holders of title IV, HEA loan(s);

(7) To assist in assessing the administration of title IV, HEA program funds by guaranty agencies, lenders and loan holders, IHEs, and third-party servicers;

(8) To initiate or support a limitation, suspension, or termination action, an emergency action, or a debarment or suspension action;

(9) To inform the parent(s) of a dependent applicant of information about the parent(s), or the spouse of a married applicant of information about the spouse, in an application for title IV, HEA funds;

(10) To disclose applicant records to the parent(s) of a dependent applicant applying for a PLUS loan (to be used on behalf of a student), to identify the student as the correct beneficiary of the PLUS loan funds, and to allow the processing of the PLUS loan application and promissory note;

(11) To expedite the application process;

(12) To enable an applicant, at the applicant's written request, to obtain income information about the applicant from the Internal Revenue Service (IRS) using the Data Retrieval Tool, until CPS is decommissioned after September 30, 2024;

(13) To identify, prevent, reduce, and recoup improper payments, prevent fraud, and conduct at-risk campaigns, including protecting customers from Third-Party Debt Relief firms;

(14) To help Federal, State, Tribal, and local government entities exercise their supervisory and administrative powers (including, but not limited to licensure, examination, discipline, regulation, or oversight of educational institutions, Department contractors, guaranty agencies, lenders and loan holders, and third-party servicers) or to respond to individual aid applicant or recipient complaints submitted regarding the practices or processes of the Department and/or the Department's contractors, or to update information or correct errors contained in Department records regarding the aid applicant's or recipient's title IV, HEA program funds;

(15) To provide eligible applicants for title IV, HEA aid, and when necessary, the spouse or parents of an applicant, with information about certain Federal means-tested benefits and services for which they may qualify;

(16) To collect, track, and process Office of Inspector General (OIG) fraud referrals;

(17) To support research, analysis, and development, and the implementation and evaluation of educational policies in relation to title IV, HEA programs; and

(18) To conduct testing, analysis, or take other administrative actions needed to prepare for or execute programs under title IV of the HEA.

CATEGORIES OF INDIVIDUALS COVERED BY THE SYSTEM:

This system maintains records on individuals who are, were, or may be participants in any of the Federal student financial assistance programs under title IV of the HEA who request assistance from the Department, directly or through State requestors and legal assistance organizations (“third-party requestors”) who may request that the Secretary of Education form a group of Federal student loan borrowers for borrower defense relief.

This system also maintains records on student and parent applicants (and their third-party preparers), as well as the spouse of a married applicant and the parent(s) of a dependent applicant, who apply for Federal student financial assistance under one of the programs authorized under title IV of the HEA, including, but not limited to the: (1) Federal Pell Grant Program; (2) Federal Perkins Loans Program; (3) Academic Competitiveness Grant (ACG) Program; (4) National Science and Mathematics Access to Retain Talent (National SMART) Grant Program; (5) Teacher Education Assistance for College and Higher Education (TEACH) Grant Program; (6) Iraq and Afghanistan Service Grant (IASG) Program; (7) Direct Loan Program, which includes Federal Direct Stafford/Ford Loans, Federal Direct Unsubsidized Stafford/Ford Loans, Federal Direct PLUS Loans, and Federal Direct Consolidation Loans; (8) Federal Family Education Loan (FFEL) Program; and (9) Federal Insured Student Loan (FISL) Program.

This system also maintains records on individuals who apply for an FSA ID in the Department's Person Authentication Service (PAS) system because the Department uses CPS, which maintains records that are part of this system, as a pass-through to send these individuals' records from the PAS system to the Social Security Administration (SSA) for computer matching in order to assist the Department in verifying their identities. This pass-through will be terminated when CPS is decommissioned after September 30, 2024.

CATEGORIES OF RECORDS IN THE SYSTEM:

This system maintains records that contain the following information:

(1) Information provided by applicants for title IV, HEA program assistance on an incomplete or completed FAFSA, including, but not limited to, the applicant's name, address, SSN, DOB, telephone number, driver's license number (which will not be collected on the FAFSA for award year 2024-2025 and onward, and will not be collected by FPS), email address, citizenship status, marital status, legal residence, status as a veteran, educational status, and financial information (including asset and income information). (Note: The Federal Tax Information (FTI) that the Department obtains directly from the IRS under the Fostering Undergraduate Talent by Unlocking Resources for Education (FUTURE) Act, Pub. L. 116-91, is maintained in a separate system of records entitled “FUTURE Act System (FAS)” (18-11-23), the notice for which was published in the Federal Register on June 29, 2023 (88 FR 42220));

(2) Information provided about the parent(s) of a dependent applicant, including, but not limited to, the parent's highest level of schooling completed (which will not be collected on the FAFSA starting with award year 2024-2025 and will not be collected by FPS; after which point the Department will instead collect on the FAFSA the parent's college attendance status), marital status, SSN, last name and first initial, DOB, email address, number of people in the household supported by the parent, and asset and income information.

(3) Information about the spouse of a married applicant including, but not limited to: the spouse's name, address, SSN, DOB, telephone number, email address, citizenship status, marital status, legal residence, status as a veteran, and financial information (including asset and income information that is needed for CPS processing until September 30, 2024);

(4) Information provided by IHEs on behalf of student and parent applicants, including, but not limited to, verification results, dependency overrides, and resolution of comment codes or reject codes;

(5) Information calculated by CPS through the 2023-24 award year on the applicant's expected family contribution (EFC);

(6) Information on the applicant's Institutional Student Information Record (ISIR), and Student Aid Report (SAR) or the renamed FAFSA Submission Summary (FSS). The Department uses the ISIR and SAR or FSS to report, among other things, the EFC, or the SAI results that are calculated during FPS processing, to IHEs, State grant agencies, and applicants. The EFC or SAI is available to, and used by, IHEs to determine the applicant's eligibility for Federal and institutional program assistance and the amount of assistance, and State grant agencies to determine the applicant's eligibility for State grants and the amount of grant assistance. The Department notifies the applicant of the results of their application via the SAR or FSS. The Department provides the IHEs identified on the applicant's FAFSA with the ISIR, which indicates whether there are discrepant or insufficient information, school adjustments, or CPS assumptions that affect processing of the FAFSA. Other information in the system includes, but is not limited to: Secondary EFC (an EFC that is calculated from the full EFC formula and is printed in the Financial Aid Administrator's (FAA) Information section of the ISIR), dependency status, Federal Pell Grant eligibility, duplicate SSN (an indicator that is set to alert ISIR recipients that two applications were processed with the same SSN, Incarcerated Student Indicator Flag (an indicator that will be used to identify an aid applicant as an incarcerated student), selection for verification, Simplified Needs Test (SNT) or Automatic Zero EFC (used for extremely low family income), CPS and FPS processing comments, reject codes (explanation for applicant's FAFSA not computing EFC), assumptions made with regard to the student's information due to incomplete or inconsistent FAFSA information, FAA adjustments including dependency status overrides, and CPS and FPS record processing information (application receipt date, transaction number, transaction process date, SAR Serial Number, Compute Number, Data Release Number (DRN), a four-digit number assigned to each application), National Student Loan Database System (NSLDS) match results, a bar code, and transaction source);

(7) Information that identifies aid applicant or aid recipient complaints, positive feedback, reports of suspicious activity, requests for assistance, requests for borrower defense relief, requests for PSLF reconsideration, or other inquiries. Such information includes, but is not limited to: written documentation of an aid applicant or aid recipient's complaint, request for assistance, request for relief under the borrower defense to repayment regulations, case tracking number, case appeal identifier, or other comment or inquiry; and information pertaining to the aid recipient's or the aid recipient's parent's student financial assistance program account(s) under title IV of the HEA, such as the aid recipient's and the aid recipient's parent's names and Federal Student Aid IDs (FSA IDs). Information may include the name, address, and phone numbers of the aid recipient's counsel or representative, IHE(s), lender(s), secondary holder(s) or lender(s), guaranty agency(ies), servicer(s), private collection agency(ies), and third-party requestor(s), as this term is defined in 34 CFR 685.401(a), if applicable, and may contain other loan-level information;

(8) Information provided and generated through customer interactions with contact center support via inbound and outbound channels (phone, chat, webform, email, customer satisfaction survey, fax, physical mail, social media platforms, digital engagement platforms, and controlled correspondence). Information includes, but is not limited to: chat transcripts, email communications, audio recordings of customer calls, and screen recordings of contact center support desktop during customer interactions;

(9) Loan discharge eligibility and verification information for use in determining whether a title IV, HEA debt/loan qualifies for discharge;

(10) Aid recipient's employer information to determine employer qualification for borrowers to receive discharge under PSLF; OIG fraud referral information; and customer support interactions including phone, chat, webform, email, fax, physical mail, and controlled correspondence;

(11) Information for collecting, processing, and storing user activity events from across the DCC IT system: campaign details, delivery details, email/SMS sent timestamp, transaction ID, Federal Account Number (FAN) ID, activity details, activity date, pages/URL accessed, user IP address, user-submitted materials, and user request details;

(12) Information needed to aid in the delivery of strategic and real-time communication to customers, including, but not limited to, first name, last name, DOB, state of residence, email, phone number, mobile device ID, device data, FAFSA transaction data, uniform resource locator (URL), computer-related data, and customer communication preferences and user activity (open or clicks) for email and SMS communications;

(13) Information provided on third-party preparers, including, but not limited to, first name, last name, SSN or employer identification number, affiliation, address or employer's address, signature, and signature date.

Note: This system of records also maintains information that is collected in this system and stored in other systems of records. The following information about individuals who apply for or receive a Federal grant or loan under one of the programs authorized under title IV of the HEA is collected in this system and stored in the “Common Origination and Disbursement (COD) System” (18-11-02) system of records: applicant identifiers including applicant's name, SSN, and DOB; demographic information, including asset and income information (tax return status, adjusted gross income, Internal Revenue Service exemptions, and tax year), and enrollment information; borrower's loan(s) information, including information about recipients of Direct Loans, FFEL Program loans, Perkins Loans, and FISL Program loans, such as the period from the origination of the loan through final payment, and milestones, including, but not limited to, consolidation, discharge, or other final disposition including details such as loan amount, disbursements, balances, loan status, repayment plan and related information, collections, claims, deferments, forbearances, and refunds; information about students receiving Federal grants, including recipients of Pell Grants, ACG, National SMART Grants, TEACH Grants, Iraq and Afghanistan Service Grants, and including grant amounts, grant awards, verification status, lifetime eligibility used (LEU), IASG eligible veteran's dependent indicator, Children of Fallen Heroes Scholarship eligibility indicator, and the Pell Grant additional eligibility indicator; Pell Grant collection status indicator and overpayment collection information; promissory notes, Direct Loan Entrance Counseling forms, Federal Student Loan Exit Counseling forms, PLUS Loan Counseling forms, the Annual School Loan Acknowledgement (ASLA), Direct PLUS Loan Requests, endorser addendums, and counseling in the Direct Loan and TEACH Grant programs, such as the date that applicant completed counseling; PLUS Loan credit report information; applicant identifier information for an electronic request to repay a Direct Loan under an income-driven repayment plan and endorser/spouse information, such as the SSN, date that applicant completed the income-driven repayment plan application, and current loan balances; Electronic Direct Consolidation Loan borrower identifier information, such as the borrower's SSN, the date that borrower completed the Federal Direct Consolidation Loan application and promissory note, and current loan balances; and credit check decisions, credit appeals, credit appeal identifiers, and credit history information to support the credit appeal process. Further, information from the “Enterprise Data Management and Analytics Platform Services (EDMAPS)” (18-11-22) system of records is accessible in the DCC IT system to: allow real-time updates to a customer's identifiers, demographic attributes, address, phone, and email contact details; update customer preference for receiving marketing information via text message; allow the Department and its contractors to identify customers who have completed a customer satisfaction survey; and enable the Department to contact borrowers who have been identified by the Department as potentially having fraudulent activity from a Third-Party Debt Relief (TPDR) company and are at risk of loan default. The following information is modifiable by the customer through StudentAid.gov: name, DOB, address, phone number, and email address. The DCC IT system also sends the following information to the EDMAPS system for analytics and reporting: case information including complaints, and OIG fraud referral data. Information includes, but is not limited to: SSN, DOB, address, phone, and email. Additionally, some information from Federal Loan Servicers' systems (covered by the “Common Services for Borrowers (CSB)” (18-11-16) system of records) is accessible on StudentAid.gov to allow customers to view their payment information, loan information, and to make payments on StudentAid.gov as they would on the various Federal Loan Servicer websites. Further, customers can use StudentAid.gov to update their contact information and access financial aid history that is stored in the “National Student Loan Data System (NSLDS)” (18-11-06) system of records. Additionally, until CPS is decommissioned after September 30, 2024, CPS is also used as a pass-through to send information that is stored in the “Person Authentication Service (PAS)” (18-11-12) system of records to SSA for computer matching on individuals who apply for an FSA ID in PAS in order to assist the Department in verifying their identities. The information includes, but is not limited to: SSN, name, and DOB. Finally, beginning with the 2024-25 award year application cycle, the IRS will disclose directly to the Department FTI for FAFSA application processing and aid eligibility determination; that FTI will not be maintained in this system. Beginning July 30, 2023, the IRS will also disclose directly to the Department FTI to determine eligibility and monthly payment amounts under Income-Driven Repayment (IDR) plans; that FTI also will not be maintained in this system. All FTI that the Department will obtain directly from the IRS under the FUTURE Act will be maintained within the FTI Module (FTIM) system that will be compliant with the IRS Publication 1075, “Tax Information Security Guidelines for Federal, State and Local Agencies, Safeguards for Protecting Federal Tax Returns and Return Information,” and that will be covered under the Department's system of records notice entitled “FUTURE Act System (FAS)” (18-11-23). This system will continue to maintain both historical income information (obtained from the IRS until CPS is decommissioned) and applicant-provided income information (either through a manual FAFSA entry or submission of alternative documentation of income (ADOI) through the IDR process). Any reference to income throughout this system of records notice refers explicitly to income information that the Department did not obtain directly from the IRS but obtained from the applicant or from another source.

RECORD SOURCE CATEGORIES:

Information maintained in this system of records is obtained from applicants, the parents of dependent applicants, third-party preparers, and the spouse of married applicants for title IV, HEA program assistance, on the paper FAFSA, Portable Document Format (PDF) FAFSA, the online FAFSA form, and FAFSA by phone; the authorized employees or representatives of authorized entities (namely, IHEs, institutional third-party servicers, FFEL Program lenders, FFEL Program guaranty agencies, Federal loan servicers, State grant agencies, other Federal agencies, and research agencies); and from other persons or entities from which information is obtained following a disclosure under the routine uses set forth below.

The Financial Aid Administrators at IHEs designated by the applicant and IHEs' third-party servicers may correct the records in this system as a result of documentation provided by the applicant or by a dependent applicant's parents, such as Federal income return(s) (IRS Form 1040), Social Security card(s), and Department of Homeland Security I-551 Permanent Resident Card.

This system maintains information added during CPS processing and that will be added during FPS processing and information received from other Department systems, including the NSLDS, the COD System, and the SAIG Participation Management System. The results of matching programs with Federal agencies or State or local governments, or agencies thereof, are added to the student's record during CPS processing and will be added to the student's record during FPS processing. The Department's matching programs at the time of the publication of this system of records notice are with the SSA to verify the SSNs of applicants, dependent applicants' parent(s), and spouses of married applicants, as well as of individuals who apply for an FSA ID, and to confirm the U.S. citizenship status of applicants as recorded in SSA records and date of death (if applicable) of applicants, and dependent applicants' parents, pursuant to title IV of the HEA, including sections 428B(f)(2), 483(a)(12) (which under the FAFSA Simplification Act will be section 483(a)(2)(B)), and 484(g) and (p) (which the FAFSA Simplification Act redesignates as section 484(o)) of the HEA (20 U.S.C. 1078-2(f)(2), 1090(a)(12) (which the FAFSA Simplification Act amends to be 1090(a)(2)(B)), and 1091(g) and (p) (which the FAFSA Simplification Act redesignates as 1091(o)); with the Department of Veterans Affairs (VA) to verify the status of applicants who claim to be veterans, pursuant to section 480(c) and (d)(1)(D) of the HEA (20 U.S.C. 1087vv(c) and (d)(1)(D)); with the U.S. Department of Homeland Security (DHS) to confirm the immigration status of applicants for assistance as authorized by section 484(g) of the HEA (20 U.S.C. 1091(g)); with the U.S. Department of Justice (DOJ) to enforce any requirement imposed at the discretion of a court, pursuant to section 5301 of the Anti-Drug Abuse Act of 1988, Public Law 100-690, as amended by section 1002(d) of the Crime Control Act of 1990, Public Law 101-647 (21 U.S.C. 862), denying Federal benefits under the programs established by title IV of the HEA to any individual convicted of a State or Federal offense for the distribution or possession of a controlled substance; and, through award year 2023-2024 following the implementation of the FAFSA Simplification Act on July 1, 2024, with the U.S. Department of Defense (DoD) to identify dependents of U.S. military personnel who died in service in Iraq and Afghanistan after September 11, 2001, to determine if they are eligible for increased amounts of title IV, HEA program assistance, pursuant to sections 420R and 473(b) of the HEA (20 U.S.C. 1070h and 1087mm(b)), which will be replaced by Section 401(c) under the FAFSA Simplification Act.

During CPS and FPS processing, the Department's COD System sends information to these systems for students who have received a Federal Pell Grant. CPS and FPS use this information for verification analysis and for end-of-year reporting. These data elements include, but are not limited to: Verification Selection and Status, Potential Over-award Project (POP) indicator, Institutional Cost of Attendance, Reporting and Attended Campus Pell ID and Enrollment Date, and Federal Pell Grant Program information (Scheduled Federal Pell Grant Award, Origination Award Amount, Total Accepted Disbursement Amount, Number of Disbursements Accepted, Percentage of Eligibility Used At This Attended Campus Institution, and Date of Last Activity from the Origination or Disbursement table).

CPS and FPS also receive applicant information from the Department's NSLDS system each time an application is processed or corrected. This process assesses student aid eligibility, updates financial aid history, and ensures compliance with title IV, HEA regulations. Some of this information appears on the applicant's SAR or FSS and ISIR. Title IV, HEA award information is provided to NSLDS from several different sources. Federal Perkins Loan information and Federal Supplemental Educational Opportunity Grant (FSEOG) overpayment information is sent from IHEs or their third-party servicers; the Department's COD System provides Federal Pell Grant and Direct Loan data; and State and guaranty agencies provide information on FFEL loans received from lending institutions participating in the FFEL programs. Financial aid transcript information reported by NSLDS provides aid recipients, IHEs, and third-party servicers with information about the type(s), amount(s), dates, and overpayment status of prior and current title IV, HEA funds the aid recipient has received. FFEL and William D. Ford Federal Direct Student Loan data information reported by NSLDS includes, but is not limited to: (1) Aggregate Loan Data, such as Subsidized, Unsubsidized; Combined Outstanding Principal Balances; Unallocated Consolidated Outstanding Principal Balances, Subsidized, Unsubsidized; Combined Pending Disbursements, Subsidized, Unsubsidized; Combined Totals; and Unallocated Consolidated Totals; (2) Detailed Loan Data, such as Loan Sequence Number; Loan Type Code; Loan Change Flag; Loan Program Code; Current Status Code and Date; Outstanding Principal Balance and Date; Net Loan Amount; Loan Begin and End Dates; Amount and Date of Last Disbursement; Guaranty Agency Code; School Code; Contact Code; and Institution Type and Grade Level; and (3) system flags for Additional Unsubsidized Loan; Capitalized Interest; Defaulted Loan Change; Discharged Loan Change; Loan Satisfactory Repayment Change; Active Bankruptcy Change; Overpayments Change; Aggregate Loan Change; Defaulted Loan; Discharged Loan; Loan Satisfactory Repayment; Active Bankruptcy; Additional Loans; Direct Loan Master Promissory Note; Direct PLUS Loan Master Promissory Note; Subsidized Loan Limit; and the Combined Loan Limit. Federal Perkins Loan information reported by NSLDS includes, but is not limited to: Cumulative and Current Year Disbursement Amounts; flags for Perkins Loan Change; Defaulted Loan; Discharged Loan; Loan Satisfactory Repayment; Active Bankruptcy; Additional Loans; and Perkins Overpayment Flag and Contact (School or Region). Federal Pell Grant payment information reported includes, but is not limited to: Pell Sequence Number; Pell Attended School Code; Pell Transaction Number; Last Update Date; Scheduled Amount; Award Amount; Amount Paid to Date; Percent Scheduled Award Used; Pell Payment EFC; Flags for Pell Verification; and Pell Payment Change. TEACH Grant Program information includes, but is not limited to: TEACH Grant Overpayment Contact; TEACH Grant Overpayment Flag; TEACH Grant Loan Principal Balance; TEACH Grant Total; and TEACH Grant Change Flag. Iraq and Afghanistan Service Grants information includes, but is not limited to, Total Award Amount. The Department obtains from and exchanges information that is included in this system of records with IHEs, third-party servicers, and State agencies. These eligible entities register with the SAIG system to participate in the information exchanges specified for their business processes.

During FPS processing, this system will receive the SAI information from the Department's FAS. The SAI is calculated using FTI that the IRS will provide directly to the Department under the FUTURE Act that will not be maintained in this system, but instead the system of records entitled “FUTURE Act System (FAS)” (18-11-23).

Additionally, for individuals who request assistance from the Department, directly or through State requestors and legal assistance organizations (“third-party requestors”), as these terms are defined in 34 CFR 685.401(a), who may request that the Secretary of Education form a group of Federal student loan borrowers for borrower defense relief, information is obtained from individuals (e.g., borrowers), their counsel or representatives, or students or their parents (when the individual is a borrower and depending on whether the individual is a parent or student), Federal agencies, State agencies, IHEs, lenders, private collection agencies, guaranty agencies, accreditors, and from other persons or entities from whom or from which data is obtained following a disclosure under routine uses set forth below.

Note: Some customer information that is retrieved from Federal Loan Servicers' IT systems (covered by the system of records notice entitled “Common Services for Borrowers (CSB)” (18-11-16)) is accessible through StudentAid.gov to provide customers with payment and loan information and to enable customers to make loan payments as they would on the various Federal Loan Servicer websites. Information that is collected in this system is stored in and retrieved from the COD System (covered by the system of records notice entitled “Common Origination and Disbursement (COD) System” (18-11-02)) to allow: applicants and borrowers to submit Counseling (Entrance, Exit, Financial Awareness Counseling, PLUS, TEACH Grant Initial and Subsequent, TEACH Grant Exit, TEACH Grant Conversion), Master Promissory Note (MPN), Endorser Addendum, TEACH Grant Agreement to Serve or Repay (Agreement), Loan Consolidation, Income-Driven Repayment, PLUS Loan Request, and Annual Student Loan Acknowledgement (ASLA) applications through StudentAid.gov; credit check decision, credit appeal, and credit history information to be viewable on StudentAid.gov to support credit appeal processing; users to view and search the PSLF employer database as retrieved from the COD System and provide updates to employers' information; and the PDF version of the PSLF/Temporary Expanded PSLF (TEPSLF) certification and application form that is generated from the PSLF Help Tool to be accessible. Information is also retrieved from the COD System to provide StudentAid.gov functionality for creating and updating customer records. The following information from the EDMAPS system is accessible in the DCC IT system: customer information that is retrieved to allow real-time updates to a customer's identifiers, demographic attributes, address, phone, and email contact details; SMS opt-in/out information for customer communication preferences to opt-in/out of receiving marketing information via text message; information for customers who have been identified by the Department and its contractors as having completed a customer satisfaction survey; information for borrowers who will be contacted by the Department because they have been identified by the Department as having potentially fraudulent activity from a TPDR company; and information on borrowers who have been identified by the Department and its contractors as being at risk for loan default.

ROUTINE USES OF RECORDS MAINTAINED IN THE SYSTEM, INCLUDING CATEGORIES OF USERS AND PURPOSES OF SUCH USES:

The Department may disclose information maintained in a record in this system of records under the routine uses listed in this system of records notice without the consent of the individual if the disclosure is compatible with the purposes for which the record was collected. These disclosures may be made on a case-by-case basis or pursuant to a computer matching agreement that meets the requirements of the Privacy Act of 1974, as amended (Privacy Act) (5 U.S.C. 552a).

(1) Program Disclosures. The Department may disclose records from the system of records for the following program purposes:

(a) To verify the identity of the applicant, the spouse of a married applicant, and the parent(s) of a dependent applicant, to verify, until CPS is decommissioned after September 30, 2024, the identities of individuals who apply for a FSA ID, to determine the accuracy of the information contained in the record, to support compliance with title IV, HEA statutory and regulatory requirements, and to assist with the determination, correction, processing, tracking, and reporting of program eligibility and benefits, the Department may disclose records to applicants, guaranty agencies, lenders and loan holders participating in the FFEL Program, IHEs, third-party servicers, and Federal, State, local, or Tribal agencies;

(b) To provide an applicant's financial aid history to IHEs, guaranty agencies and State agencies, lenders and loan holders participating in the FFEL Program, and third-party servicers, including information about the applicant's title IV, HEA loan defaults, and title IV, HEA grant program overpayments, the Department may disclose records to IHEs, guaranty agencies and State agencies, lenders and loan holders participating in the FFEL Program, and third-party servicers;

(c) To facilitate receiving and correcting application information, processing Federal Pell Grants and Direct Loans, and reporting Federal Perkins Loan Program expenditures to the Department's processing and reporting systems, the Department may disclose records to IHEs, State agencies, and third-party servicers;

(d) To assist loan holders with the collection and servicing of title IV, HEA loans, to support pre-claims/supplemental pre-claims assistance, to assist in locating borrowers, and to assist in locating students who owe grant overpayments, the Department may disclose records to guaranty agencies, lenders and loan holders participating in the FFEL Program, IHEs, third-party servicers, and Federal, State, local, and Tribal agencies;

(e) To facilitate assessments of title IV, HEA program compliance, the Department may disclose records to guaranty agencies and IHEs, third-party servicers, and Federal, State, and local agencies;

(f) To assist in locating holders of loans, the Department may disclose records to guaranty agencies, lenders and loan holders participating in the FFEL Program, IHEs, third-party servicers, and Federal, State, and local agencies;

(g) To assist in assessing the administration of title IV, HEA program funds by guaranty agencies, lenders and loan holders in the FFEL Program, IHEs, and third-party servicers, the Department may disclose records to Federal and State agencies;

(h) To enforce the terms of a loan or grant or to assist in the collection of loan or grant overpayments, the Department may disclose records to guaranty agencies, lenders and loan holders participating in the FFEL Program, IHEs, third-party servicers, and Federal, State, and local agencies;

(i) To assist borrowers in repayment, the Department may disclose records to guaranty agencies, lenders and loan holders participating in the FFEL Program, IHEs, third-party servicers, and Federal, State, and local agencies;

(j) To determine the relief that is appropriate if the Secretary of Education grants a borrower defense to repayment discharge application, as well as to pursue the recovery of liabilities of such discharges against the IHE, the Department may disclose records to Federal, State, and Tribal agencies, accreditors, IHEs, lenders and loan holders, guaranty agencies, third-party servicers, and private collection agencies;

(k) To initiate legal action against an individual or entity involved in an illegal or unauthorized title IV, HEA program expenditure or activity, the Department may disclose records to guaranty agencies, lenders and loan holders participating in the FFEL Program, IHEs, third-party servicers, and Federal, State, local, and Tribal agencies;

(l) To initiate or support a limitation, suspension, or termination action, an emergency action, or a debarment or suspension action, the Department may disclose records to guaranty agencies, lenders and loan holders participating in the FFEL Program, IHEs, third-party servicers, and Federal, State, local, and Tribal agencies;

(m) To investigate and resolve complaints, inquiries, requests for assistance, requests for Federal student loan repayment relief and other relief under the borrower defense to repayment regulations, and to update borrower account records and to correct errors, the Department may disclose records to guaranty agencies, lenders and loan holders participating in the FFEL Program, accreditors, IHEs, third-party requestors, third-party servicers, private collection agencies, and Federal, State, and local agencies;

(n) To inform the parent(s) of a dependent applicant of information about the parent(s), or the spouse of a married applicant of information about the spouse, in an application for title IV, HEA funds, the Department may disclose records to the parent(s), or spouse, respectively;

(o) To identify the student as the correct beneficiary of the PLUS loan funds, and to allow the processing of the PLUS loan application and promissory note, the Department may disclose records to the parent(s) applying for the parent PLUS loan;

(p) To encourage a student to complete a FAFSA that they started but did not submit or to assist a student with the completion of a FAFSA, the Department may disclose a student's FAFSA filing status to a State higher education agency so that the agency may redisclose that information to a local educational agency; a secondary school where the student is or was enrolled; grantees of the Department; American Indian and Alaska Native educational entities; and nonprofit college access organizations with an established relationship with the student;

(q) The Department may disclose records under Sections 483(a)(2)(D)(i), 483(a)(2)(E)(ii), and 483(a)(3)(B)(i) of the HEA (20 U.S.C. 1090(a)(2)(D)(i), 1090(a)(2)(E)(ii), and 1090(a)(3)(B)(i)) from this system to State higher education agencies, eligible IHEs, and scholarship organizations that were designated prior to the date of enactment (December 19, 2019) of the FUTURE Act (Pub. L. 116-91, 133 Stat. 1189) that award and administer aid to students, to determine an applicant's eligibility for aid awarded by State higher education agencies, eligible IHEs, or designated scholarship organizations, and to administer Federal aid or aid awarded by State higher education agencies, eligible IHEs, or designated scholarship organizations.;

(r) To help Federal, State, Tribal, and local government entities exercise their supervisory and administrative powers (including, but not limited to licensure, examination, discipline, regulation, or oversight of IHEs, Department contractors, guaranty agencies, lenders and loan holders, and third-party servicers) or to respond to aid applicant or recipient complaints submitted regarding the practices or processes of the Department and/or the Department's contractors, or to update information or correct errors contained in Department records regarding the aid applicant's or recipient's title IV, HEA program funds, the Department may disclose records to governmental entities at the Federal, State, Tribal, and local levels. These records may include all aspects of loans and grants made under title IV of the HEA to permit these governmental entities to verify compliance with applicable debt collection, consumer protection, financial, and other applicable statutory, regulatory, or local requirements. Before making a disclosure to these Federal, State, local, or Tribal governmental entities, the Department will require them to maintain safeguards consistent with the Privacy Act to protect the security and confidentiality of the disclosed records; and

(s) The Department may disclose records from an applicant's FAFSA to IHEs and State higher education agencies to provide aid applicants and aid recipients with information about certain Federal means-tested benefits for which they may qualify.

Note: Some information that is maintained in this system of records is also maintained in other Department systems of records and, therefore, may be disclosed pursuant to the routine uses published in those other systems' system of records notices, including the “Common Origination and Disbursement (COD) System” (18-11-02), “National Student Loan Data System (NSLDS)” (18-11-06), and “Common Services for Borrowers (CSB)” (18-11-16).

(2) Enforcement Disclosure. In the event that information in this system of records indicates, either on its face or in connection with other information, a violation or potential violation of any applicable statute, regulations, or order of a competent authority, the Department may disclose the relevant records to the appropriate agency, whether Federal, State, Tribal, or local, charged with the responsibility of investigating or prosecuting that violation or charged with enforcing or implementing the statute, Executive Order, rule, regulation, or order issued pursuant thereto.

(3) Litigation and Alternative Dispute Resolution (ADR) Disclosure.

(a) Introduction. In the event that one of the parties listed in sub-paragraphs (i) through (v) of this routine use is involved in judicial or administrative litigation or ADR, or has an interest in judicial or administrative litigation or ADR, the Department may disclose certain records to the parties described in paragraphs (b), (c), and (d) of this routine use under the conditions specified in those paragraphs:

(i) The Department or any of its components;

(ii) Any Department employee in their official capacity;

(iii) Any Department employee in their individual capacity where the U.S. Department of Justice (DOJ) agrees to or has been requested to provide or arrange for representation of the employee;

(iv) Any Department employee in their individual capacity where the Department has agreed to represent the employee; and

(v) The United States, where the Department determines that the litigation is likely to affect the Department or any of its components.

(b) Disclosure to the DOJ. If the Department determines that disclosure of certain records to the DOJ is relevant and necessary to judicial or administrative litigation or ADR, the Department may disclose those records as a routine use to the DOJ.

(c) Adjudicative Disclosure. If the Department determines that it is relevant and necessary to judicial or administrative litigation or ADR to disclose certain records to an adjudicative body before which the Department is authorized to appear or to a person or entity designated by the Department or otherwise empowered to resolve or mediate disputes, the Department may disclose those records as a routine use to the adjudicative body, person, or entity.

(d) Disclosure to Parties, Counsel, Representatives, and Witnesses. If the Department determines that disclosure of certain records is relevant and necessary to judicial or administrative litigation or ADR, the Department may disclose those records as a routine use to the party, counsel, representative, or witness.

(4) Freedom of Information Act (FOIA) and Privacy Act Advice Disclosure. The Department may disclose records to the DOJ or to the Office of Management and Budget (OMB) if the Department determines that disclosure is desirable or necessary in determining whether records are required to be disclosed under the FOIA or the Privacy Act.

(5) Contract Disclosure. If the Department contracts with an entity to perform any function that requires disclosing records in this system of records to the contractor's employees, the Department may disclose the records to those employees. As part of such a contract, the Department shall require the contractor to agree to establish and maintain safeguards to protect the security and confidentiality of the disclosed records.

(6) Congressional Member Disclosure. The Department may disclose the records of an individual to a member of Congress or the member's staff when necessary to respond to an inquiry from the member made at the written request of and on behalf of the individual whose records are being disclosed. The member's right to the information is no greater than the right of the individual who requested it.

(7) Employment, Benefit, and Contracting Disclosure.

(a) For Decisions by the Department. The Department may disclose a record to a Federal, State, or local agency, or to another public agency or professional organization, maintaining civil, criminal, or other relevant enforcement or other pertinent records, if necessary to obtain information relevant to a Department decision concerning the hiring or retention of an employee or other personnel action, the issuance of a security clearance, the letting of a contract, or the issuance of a license, grant, or other benefit.

(b) For Decisions by Other Public Agencies and Professional Organizations. The Department may disclose a record to a Federal, State, local, or other public agency or professional organization, or the Department's contractor in connection with the hiring or retention of an employee or other personnel action, the issuance of a security clearance, the reporting of an investigation of an employee, the letting of a contract, or the issuance of a license, grant, or other benefit, to the extent that the record is relevant and necessary to the receiving entity's decision on the matter.

(8) Employee Grievance, Complaint, or Conduct Disclosure. If a record is relevant and necessary to an employee grievance, complaint, or disciplinary action involving a present or former employee of the Department, the Department may disclose a record from this system of records in the course of investigation, fact-finding, or adjudication to any party to the grievance, complaint, or action; to the party's counsel or representative; to a witness; or to a designated fact-finder, mediator, or other person designated to resolve issues or decide the matter.

(9) Labor Organization Disclosure. The Department may disclose records from this system of records to an arbitrator to resolve disputes under a negotiated grievance procedure or to officials of labor organizations recognized under 5 U.S.C. chapter 71 when relevant and necessary to their duties of exclusive representation.

(10) Disclosure to the DOJ. The Department may disclose records to the DOJ to the extent necessary for obtaining DOJ advice on any matter relevant to an audit, inspection, or other inquiry related to the programs covered by this system.

(11) Research Disclosure. The Department may disclose records to a researcher if the Department determines that the individual or organization to which the disclosure would be made is qualified to carry out specific research related to functions or purposes of this system of records. The Department may disclose records from this system of records to that researcher solely for the purpose of carrying out that research related to the functions or purposes of this system of records. The researcher must agree to establish and maintain safeguards to protect the security and confidentiality of the disclosed records.

(12) Disclosure to the OMB and Congressional Budget Office (CBO) for Federal Credit Reform Act (FCRA) Support. The Department may disclose records to OMB and CBO as necessary to fulfill FCRA requirements in accordance with 2 U.S.C. 661b.

(13) Disclosure in the Course of Responding to Breach of Data. The Department may disclose records to appropriate agencies, entities, and persons when (a) the Department suspects or has confirmed that there has been a breach of the system of records; (b) the Department has determined that as a result of the suspected or confirmed breach there is a risk of harm to individuals, the Department (including its information systems, programs, and operations), the Federal Government, or national security; and (c) the disclosure made to such agencies, entities, and persons is reasonably necessary to assist in connection with the Department's efforts to respond to the suspected or confirmed breach or to prevent, minimize, or remedy such harm.

(14) Disclosure in Assisting another Agency in Responding to a Breach of Data. The Department may disclose records from this system of records to another Federal agency or Federal entity, when the Department determines that information from this system of records is reasonably necessary to assist the recipient agency or entity in (a) responding to a suspected or confirmed breach, or (b) preventing, minimizing, or remedying the risk of harm to individuals, the recipient agency or entity (including its information systems, programs, and operations), the Federal Government, or national security, resulting from a suspected or confirmed breach.

(15) Disclosure of Information to State and Federal Agencies. The Department may disclose records from this system of records to (a) a Federal or State agency, its employees, agents (including contractors of its agents), or contractors, or (b) a fiscal or financial agent designated by the U.S. Department of the Treasury, including employees, agents, or contractors of such agent, for the purpose of identifying, preventing, or recouping improper payments to an applicant for, or recipient of, Federal funds.

(16) Disclosure to the National Archives and Records Administration (NARA). The Department may disclose records from this system of records to NARA for the purpose of records management inspections conducted under the authority of 44 U.S.C. 2904 and 2906.

(17) Disclosure to Consumer Reporting Agencies. Disclosures pursuant to 5 U.S.C. 552a(b)(12): The Department may disclose the following information to a consumer reporting agency regarding a valid, overdue claim of the Department: (a) the name, address, taxpayer identification number, and other information necessary to establish the identity of the individual responsible for the claim; (b) the amount, status, and history of the claim; and (c) the program under which the claim arose. The Department may disclose the information specified in this paragraph under 5 U.S.C. 552a(b)(12) and the procedures contained in subsection 31 U.S.C. 3711(e). A consumer reporting agency to which these disclosures may be made is defined at 15 U.S.C. 1681a(f) and 31 U.S.C. 3701(a)(3).

POLICIES AND PRACTICES FOR STORAGE OF RECORDS:

System records are paper-based and stored in locked rooms or electronic and stored on secured computer systems and in the cloud.

Fully processed paper applications and supporting paper documentation that are received on or before June 30, 2024, are stored for applicable periods in standard Federal Records Center boxes in locked storage rooms at the contractor facilities in London, Kentucky. Fully processed paper applications and supporting paper documentation requiring retention and received on or after July 1, 2024, will be stored in a private records storage facility, as applicable. The records storage facilities currently utilized are listed in the “System Location” section above.

Digitized paper applicant records, which include optically imaged documents, are stored on DADS (disks) in a virtual disk library, which is also electronic, in the computer facilities controlled by the Next Generation Data Center (NGDC) in Clarksville, VA.

Records that are collected in this system for applicants of Federal grants or loans are stored in the COD System for individuals who apply under one of the programs authorized under title IV of the HEA, including, but not limited to the: (1) Federal Pell Grant Program; (2) Federal Perkins Loans Program; (3) ACG Program; (4) National SMART Grant Program; (5) TEACH Grant Program; (6) Iraq and Afghanistan Service Grant Program; (7) Direct Loan Program, which includes Federal Direct Stafford/Ford Loans, Federal Direct Unsubsidized Stafford/Ford Loans and Federal Direct PLUS Loans and Federal Direct Consolidation Loans; (8) FFEL Program; and (9) FISL Program.

POLICIES AND PRACTICES FOR RETRIEVAL OF RECORDS:

Records in this system pertaining to a title IV, HEA loan applicant, borrower, or grant recipient are indexed and retrieved by a single data element, or a combination of the following data elements, to include SSN, name, DOB, the award year in which the applicant applied for title IV, HEA program assistance, and case tracking number. These data elements are also used to retrieve information of title IV, HEA program applicants for and recipients of Federal grants or loans from the COD System (applicant information is collected in this system of records and stored in the COD System).

This system also uses a credit appeal identifier to retrieve credit appeal information from the COD System to support the credit appeal process.

Additionally, this system uses a combination of SSN, DOB, and name data elements to retrieve some records from Federal Loan Servicers' systems (covered by the system of records notice entitled “Common Services for Borrowers (CSB)” (18-11-16)) to allow customers to access their payment information, loan information and to make payments on StudentAid.gov as they would on the various Federal Loan Servicer websites.

This system also uses customer identifiers to retrieve customer information data from the EDMAPS system (covered by the system of records noticed entitled “Enterprise Data Management and Analytics Platform Services (EDMAPS) System” (18-11-22)) to allow real-time updates to customer information and communication preferences; and for the Department and its contractors to identify customers who have completed a customer satisfaction survey in the DCC system; who may have potential fraudulent activity from a TPDR company; and who may be at risk for loan default.

POLICIES AND PRACTICES FOR RETENTION AND DISPOSAL OF RECORDS:

Records maintained in this system are primarily retained and disposed of in accordance with the records schedules listed below. The Department has submitted amendments to these records schedules to NARA for its review and approval.

(a) Department Records Schedule 051: FSA National Student Loan Data System (NSLDS) (DAA-0441-2017-0004) (ED 051). (Records covered by ED 051 will not be destroyed until NARA-approved amendments to ED 051 are in effect, as applicable.)

(b) Department Records Schedule 052: Ombudsman Case Files (N1-441-09-21) (ED 052). (Records covered by ED 052 will not be destroyed until NARA-approved amendments to ED 052 are in effect, as applicable.)

(c) Department Records Schedule 072: FSA Application, Origination, and Disbursement Records (DAA-0441-2013-0002) (ED 072). (Records covered by ED 072 will not be destroyed until NARA-approved amendments to ED 072 are in effect, as applicable.)

ADMINISTRATIVE, TECHNICAL, AND PHYSICAL SAFEGUARDS:

All users of the system will have a unique user ID with a password. All physical access to the data housed at system locations is controlled and monitored by security personnel who check each individual entering the building for their employee or visitor badge. The IT systems employed by the Department offers a high degree of resistance to tampering and circumvention with firewalls, encryption, and password protection. This security system limits data access to Department and contract staff on a “need-to-know” basis and controls individual users' ability to access and alter records within the system. All interactions by users of the system are recorded.

In accordance with the Federal Information Security Management Act of 2002 (FISMA), as amended by the Federal Information Security Modernization Act of 2014, every Department system must receive a signed Authorization to Operate (ATO) from a designated Department official. The ATO process includes a rigorous assessment of security and privacy controls, a plan of actions and milestones to remediate any identified deficiencies, and a continuous monitoring program.

FISMA controls implemented are comprised of a combination of management, operational, and technical controls, and include the following control families: access control, awareness and training, audit and accountability, security assessment and authorization, configuration management, contingency planning, identification and authentication, incident response, maintenance, media protection, physical and environmental protection, planning, personnel security, privacy, risk assessment, system and services acquisition, system and communications protection, system and information integrity, and program management.

RECORD ACCESS PROCEDURES:

If you wish to gain access to a record in this system, contact the respective system manager at the address listed above. You must provide necessary particulars such as your name, SSN, and any other identifying information requested by the Department while processing the request to distinguish between individuals with the same name.

Alternatively, to gain access to a record in the system, you may make a Privacy Act request through the U.S. Department of Education, FOIA Service Center at https://www2.ed.gov/policy/gen/leg/foia/request_privacy.html by completing the applicable request forms. Requests by an individual for access to a record must meet the requirements of the Department's Privacy Act regulations at 34 CFR 5b.5, including proof of identity.

Borrowers are able to access their financial aid history from NSLDS in this system. If you wish to gain access to other records in the NSLDS, please refer to the RECORD ACCESS PROCEDURES section in the system of records notice entitled “National Student Loan Data System (NSLDS)” (18-11-06).

For title IV, HEA program applicants and recipients of Federal grants or loans, if you wish to gain access to such information about you from the COD System, please refer to the RECORD ACCESS PROCEDURES section in the system of records notice entitled “Common Origination and Disbursement (COD) System” (18-11-02).

If you wish to gain access to the EDMAPS system information that is about you and accessible in this system, please refer to the RECORD ACCESS PROCEDURES section in the system of records notice entitled “Enterprise Data Management and Analytics Platform Services (EDMAPS) System” (18-11-22).

If you wish to gain access to the PAS system information about you that is maintained in this system until CPS is decommissioned after September 30, 2024, please refer to the RECORD ACCESS PROCEDURES section in the system of records notice entitled “Person Authentication Service (PAS)” (18-11-12).

If you wish to gain access to the information in the Federal Loan Servicers' IT systems that is about you and accessible in this system, please refer to the RECORD ACCESS PROCEDURES section in the system of records notice entitled “Common Services for Borrowers (CSB)” (18-11-16).

CONTESTING RECORD PROCEDURES:

If you wish to contest or change the content of a record about you in the system of records, provide the respective system manager with your name, DOB, SSN, and any other identifying information requested by the Department while processing the request to distinguish between individuals with the same name. Identify the specific items to be changed and provide a written justification for the change.

To contest information submitted or included on a FAFSA application for the current award year, send your request to the FOIA Service Center listed in the Notification Procedures section.

Financial aid history from NSLDS is accessible in this system. To contest name and address records about you, provide the respective system manager with your name, DOB, SSN, and any other identifying information requested by the Department while processing the request to distinguish between individuals with the same name. All other financial aid history records from NSLDS must be contested by following the CONTESTING RECORD PROCEDURES identified in the system of records notice entitled “National Student Loan Data System (NSLDS)” (18-11-06).

For title IV, HEA program applicants and recipients of Federal grants or loans, if you wish to contest such information about you, please refer to the CONTESTING RECORD PROCEDURES section in the system of records notice entitled “Common Origination and Disbursement (COD) System” (18-11-02).

To contest information about you in a Federal Loan Servicer IT system, such as the payment and loan information that is accessible in this system, please refer to the CONTESTING RECORD PROCEDURES section in the system of records notice entitled “Common Services for Borrowers (CSB)” (18-11-16).

To contest the EDMAPS system information that is accessible in this system, please refer to the CONTESTING RECORD PROCEDURES section in the system of records notice entitled “Enterprise Data Management and Analytics Platform Services (EDMAPS) System” (18-11-22).

To contest the PAS system information about you that is maintained in this system until CPS is decommissioned after September 30, 2024, please refer to the CONTESTING RECORD PROCEDURES section in the system of records notice entitled “Person Authentication Service (PAS)” (18-11-12).

Requests to amend a record must meet the requirements of the Department's Privacy Act regulations at 34 CFR 5b.7.

NOTIFICATION PROCEDURES:

If you wish to determine whether a record exists about you in the system of records, contact the respective system manager at the address listed above. You must provide necessary particulars such as your name, SSN, and any other identifying information requested by the Department while processing the request to distinguish between individuals with the same name.

Alternatively, you may make a Privacy Act request through the U.S. Department of Education, FOIA Service Center at https://www2.ed.gov/policy/gen/leg/foia/request_privacy.html by completing the applicable request forms.

If you wish to submit a request for notification to determine whether a record exists about you in the COD System as a title IV, HEA program applicant or recipient of a Federal grant or loan, please refer to the NOTIFICATION PROCEDURES section in the system of records notice entitled “Common Origination and Disbursement (COD) System” (18-11-02).

Borrowers are able to access their financial aid history from NSLDS in this system. If you wish to submit a request for notification to determine whether a record exists about you in the NSLDS system of records, please refer to the NOTIFICATION PROCEDURES section in the system of records notice entitled “National Student Loan Data System (NSLDS)” (18-11-06).

If you wish to submit a request for notification to determine whether a record exists about you in a Federal Loan Servicer IT system, please refer to the NOTIFICATION PROCEDURES section in the system of records notice entitled “Common Services for Borrowers (CSB)” (18-11-16).

If you wish to submit a request for notification to determine whether a record exists about you in EDMAPS system, please refer to the NOTIFICATION PROCEDURES section in the system of records notice entitled “Enterprise Data Management and Analytics Platform Services (EDMAPS) System” (18-11-22).

If you wish to submit a request for notification to determine whether a record exists about you in the PAS system, please refer to the NOTIFICATION PROCEDURES section in the system of records notice entitled “Person Authentication Service (PAS)” (18-11-12).

Requests for notification about whether the system of records contains information about an individual must meet the requirements of the Department's Privacy Act regulations at 34 CFR 5b.5, including proof of identity.

EXEMPTIONS PROMULGATED FOR THE SYSTEM:

None.

HISTORY:

The system of records entitled “Aid Awareness and Application Processing” (18-11-21) was last modified and published in full in the Federal Register on February 2, 2024 (89 FR 7381).

[FR Doc. 2024-11852 Filed 5-29-24; 8:45 am]

BILLING CODE 4000-01-P